DEPARTMENT OF ENERGY

Federal Energy Regulatory Commission

Combined Notice of Filings 1

Take notice that the Commission has received the following Natural Gas Pipeline Rate and Refund Report filings:

Docket Numbers: RP20-227-000.

Applicants: Elba Express Company, L.L.C.

Description: § 4(d) Rate Filing: EEC Housekeeping Filing—2019 to be effective 1/1/2020.

Filed Date: 11/13/19.

Accession Number: 20191113-5017.

Comments Due: 5 p.m. ET 11/25/19.

Docket Numbers: RP20-228-000.

Applicants: Discovery Gas Transmission LLC.

Description: § 4(d) Rate Filing: 2020 HMRE Surcharge Filing to be effective 1/1/2020.

Filed Date: 11/14/19.

Accession Number: 20191114-5019.

Comments Due: 5 p.m. ET 11/26/19.

Docket Numbers: RP20-229-000.

Applicants: Kern River Gas Transmission Company.

Description: § 4(d) Rate Filing: 2019 ConocoPhillips Amendment to be effective 11/15/2019.

Filed Date: 11/14/19.

Accession Number: 20191114-5036.

Comments Due: 5 p.m. ET 11/26/19.

Docket Numbers: RP20-230-000.

Applicants: Columbia Gas Transmission, LLC.

Description: § 4(d) Rate Filing: TCO Equinor Neg Rate Amendment to be effective 11/14/2019.

Filed Date: 11/14/19.

Accession Number: 20191114-5103.

Comments Due: 5 p.m. ET 11/26/19.

Docket Numbers: RP20-231-000.

Applicants: Gulf South Pipeline Company, LP.

Description: § 4(d) Rate Filing: Filing to incorporate approved changes and clean-up item to be effective 12/15/2019.

Filed Date: 11/15/19.

Accession Number: 20191115-5031.

Comments Due: 5 p.m. ET 11/27/19.

Docket Numbers: RP20-232-000.

Applicants: Dominion Energy Cove Point LNG, LP.

Description: § 4(d) Rate Filing: DECP—Negotiated Rate and Non-Conforming Service Agreement to be effective 12/15/2019.

Filed Date: 11/15/19.

Accession Number: 20191115-5156.

Comments Due: 5 p.m. ET 11/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2019.
Nathaniel J. Davis, Sr.,
Deputy Secretary.

[FR Doc. 2019-25398 Filed 11-21-19; 8:45 am]

BILLING CODE 6717-01-P